DEPARTMENT OF HOMELAND SECURITY

Federal Emergency Management Agency

Agency Information Collection Activities: Proposed Collection; Comment Request

AGENCY: Federal Emergency Management Agency, Emergency Preparedness and Response Directorate, Homeland Security.

ACTION: Notice and request for comments.

SUMMARY: The Federal Emergency Management Agency (FEMA), as part of its continuing effort to reduce paperwork and respondent burden, invites the general public and other Federal agencies to take this opportunity to comment on a proposed revised information collection. In accordance with the Paperwork Reduction Act of 1995 (44 U.S.C. 3506(c)(2)(A), this notice seeks comments concerning the revised application for Crisis Counseling Immediate Services Program assistance under Section 416 of the Robert T. Stafford Disaster Relief and Emergency Assistance Act (the Act), Public Law 93-288, as amended. The Immediate Services application has been revised to reduce the paperwork burden on the State applicant.

SUPPLEMENTARY INFORMATION: Section 416 of the Act authorizes the President to provide financial assistance to state and local governments for professional counseling services to victims of major disasters in order to relieve mental health problems caused or aggravated by a major disaster or its aftermath. FEMA regulation 44 CFR part 206, subpart F, section 206.171 implements the provisions of the Act.

Collection of Information

Title: Crisis Counseling Assistance and Training Program—Immediate Services Program and Reporting.

Type of Information Collection: Reinstatement, with change, of a previously approved collection for which approval has expired.

OMB Number: 3067-0166.

Form Numbers: Standard Form 424 Request for Federal Assistance.

FEMA Form (TBD)—Immediate Services Program Application

Abstract: The Immediate Services Program provides funding in response to a State request for the period immediately following a Presidentially declared disaster, and includes community outreach, consultation and public education and counseling techniques. The program is available for a limited period of time not to exceed 60 days, unless an application for regular program funding is submitted. FEMA provides funds in the form of a Federal grant through the State emergency management office to the State Mental Health Authority or other mental health organization designated by the Governor to provide crisis-counseling services to the Presidentially declared communities. Once the application has been approved and a grant is awarded, the State applicant must provide quarterly progress and financial reports to FEMA.

Affected Public: State, local or tribal government.

Estimated Total Annual Burden Hours: 1360.

FEMA form | Number of respondents (A) | Frequency of response (B) | Average hours per response (C) | Annual burden hours (A × B × C)
SF 424 and Immediate Services Program Application | 17 | 2 | 40 | 1360
Total | 17 | 2 | 40 | 1360

Estimated Cost: $38,448.

Comments:

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, Emergency Preparedness and Response Directorate, Department of Homeland Security, 500 C Street, SW., Room 316, Washington, DC 20472.

FOR FURTHER INFORMATION CONTACT: Contact Victoria Childs, Program Specialist, Community and Family Services Branch, Recovery Division, Readiness, Response and Recovery Directorate, (202) 646-3844 for additional information. You may contact Ms. Anderson for copies of the proposed collection of information at (202) 646-2625, facsimile number (202) 646-3347, or email address: informationcollection@fema.gov.

Dated: March 26, 2003.
Vernon Adler,
Acting Division Director, Information Resource Management Division, Information Technology Services Directorate.

[FR Doc. 03-7791 Filed 4-1-03; 8:45 am]

BILLING CODE 6718-01-P